DEPARTMENT OF COMMERCE

International Trade Administration

[A-201-805]

Certain Circular Welded Non-Alloy Steel Pipe From Mexico: Notice of Amended Final Results of Antidumping Duty Administrative Review Pursuant to Settlement; 2014-2015

AGENCY: Enforcement and Compliance, International Trade Administration, Department of Commerce.

SUMMARY: On June 13, 2017, the Department of Commerce (Commerce) published the final results of the administrative review of the antidumping duty order on certain circular welded non-alloy steel pipe from Mexico. Maquilacero, S.A. de C.V. (Maquilacero) filed a request for panel review under the North American Free Trade Agreement (NAFTA) challenging Commerce's Final Results. Maquilacero and Commerce have reached an agreement for settlement of the dispute, which is implemented by these amended final results.

DATES: Applicable October 23, 2018.

FOR FURTHER INFORMATION CONTACT: Mark Flessner or Erin Kearney, AD/CVD Operations, Office VI, Enforcement and Compliance, International Trade Administration, U.S. Department of Commerce, 1401 Constitution Avenue NW, Washington, DC 20230; telephone: (202) 482-6312 and (202) 482-0167, respectively.

SUPPLEMENTARY INFORMATION:

Background

On June 13, 2017, the Department of Commerce (Commerce) published the Final Results of its administrative review of the antidumping duty order ¹ on certain circular welded non-alloy steel pipe from Mexico.² The period of review (POR) is November 1, 2014, through October 31, 2015. Commerce conducted an administrative review of mandatory respondents Maquilacero and Regiomontana de Perfiles y Tubos, S.A. de C.V./PYTCO, S.A. de C.V. (Regiopytsa),³ and non-selected respondents Conduit, S.A. de C.V. (Conduit), Productos Laminados de Monterrey, S.A. de C.V. (Prolamsa), and Ternium Mexico, S.A. de C.V. (Ternium).⁴ In the Final Results, Commerce found that there were entries of in-scope merchandise produced and/or exported by Maquilacero, S.A. de C. V. (Maquilacero) during the POR and calculated a 7.32 percent ad valorem margin for those entries. However, Commerce also stated its intent to “adjust the assessment rate for. . . certain entries of subject merchandise produced and/or exported by Maquilacero . . . to account for the total amount of duties that would have been collected on {Maquilacero's} full universe of U.S. sales.” ⁵

¹ See Notice of Antidumping Duty Orders: Certain Circular Welded Non-Alloy Steel Pipe from Brazil, the Republic of Korea (Korea), Mexico, and Venezuela and Amendment to Final Determination of Sales at Less Than Fair Value: Certain Welded Non-Alloy Steel Pipe from Korea, 57 FR 49453 (November 2, 1992) (the Order).

² See Certain Circular Welded Non-Alloy Steel Pipe from Mexico; Final Results of Antidumping Duty Administrative Review and Final Determination of No Shipments; 2014-2015, 82 FR 27039 (June 13, 2017) (Final Results).

³ We treated Regiomontana de Perfiles y Tubos, S.A. de C.V., and PYTCO, S.A. de C.V., as a single entity for the Final Results; this remains unchanged in these amended final results.

⁴ Three additional companies were subject to review but were determined to have had no shipments of subject merchandise into the United States during the POR in the Final Results; that determination is unchanged in these amended final results.

⁵ See Final Results, 82 FR at 27040.

On July 12, 2017, Maquilacero timely filed a request for a for a NAFTA panel review challenging Commerce's Final Results. Subsequent to Maquilacero's request for this NAFTA panel review, Commerce determined that certain of Maquilacero's tubing products reported during the 2014-2015 administrative review are not within the scope of the Order.⁶

⁶ See Certain Welded Non-Alloy Steel Pipe from Mexico: Notice of Court Decision Not in Harmony With Final Scope Ruling and Notice of Amended Final Scope Ruling Pursuant to Court Decision, 83 FR 7153 (February 20, 2018); see also memorandum of final scope ruling re: 176 types of non-galvanized tubing produced to ASTM A-513 specifications by Maquilacero, dated June 18, 2018.

The United States and Maquilacero have now entered into an agreement to settle this dispute. The NAFTA Secretariat terminated the panel review with an effective completion date of October 11, 2018.

Assessment Rates

Commerce shall determine, and CBP shall assess, antidumping duties on all appropriate entries covered by this review pursuant to section 751(a)(2)(C) of the Tariff Act of 1930, as amended, and 19 CFR 351.212(b). Commerce intends to issue assessment instructions to CBP within 7 days after the date of publication of these amended final results of review in the Federal Register.

Commerce will instruct CBP to apply an ad valorem assessment rate of 7.32 percent to all entries of subject merchandise during the POR which were produced and/or exported, and imported, by Maquilacero. Commerce will further instruct CBP that certain entries for which suspension of liquidation continued may be of merchandise determined to be out of the scope of the antidumping duty order on circular welded non-alloy steel pipe from Mexico, and that CBP should liquidate those entries without regard to duties, as previously instructed.

The ad valorem assessment rates for all entries of subject merchandise during the POR which were produced and/or exported by Regiopytsa, Conduit, Prolamsa, and Ternium remain unchanged from the Final Results.

Cash Deposit Requirements

Because a new cash deposit rate has been calculated for Maquilacero in a subsequent administrative review,⁷ Commerce will not instruct CBP to change the cash deposit rate for Maquilacero.

⁷ See Certain Circular Welded Non-Alloy Steel Pipe from Mexico: Final Results of Antidumping Duty Administrative Review and Final Determination of No Shipments; 2015-2016, 83 FR 23886 (May 23, 2018).

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred, and the subsequent assessment of double antidumping duties.

We are issuing this determination and publishing these amended final results of antidumping duty administrative review pursuant to settlement.

Dated: October 17, 2018.
Christian Marsh,
Deputy Assistant Secretary for Enforcement and Compliance.

[FR Doc. 2018-23053 Filed 10-22-18; 8:45 am]

BILLING CODE 3510-DS-P